DEPARTMENT OF ENERGY

Federal Energy Regulatory Commission

[Docket No. EF03-2101-000, et al.]

United States Department of Energy, et al.; Electric Rate and Corporate Filings

November 18, 2002.

The following filings have been made with the Commission. The filings are listed in ascending order within each docket classification.

1. United States Department of Energy, Bonneville Power Administration—Pacific; Northwest Coordination Agreement

[Docket No. EF03-2101-000]

Take notice that on November 1, 2002, the Bonneville Power Administration (BPA) tendered for filing with the Federal Energy Regulatory Commission (Commission) a proposed rate adjustment to its Interchange Energy Imbalances Rate under the Pacific Northwest Coordination Agreement, pursuant to section 7(a)(2) of the Pacific Northwest Electric Power Planning and Conservation Act, 16 U.S.C. 839e(a)(2). BPA seeks interim approval of its proposed rate adjustment effective January 1, 2002, pursuant to Commission regulation 300.20, 18 CFR 300.20. Pursuant to Commission regulation 300.21, 18 CFR 300.21, BPA also seeks final confirmation and approval of the proposed rate.

BPA requests approval effective January 1, 2003, until such time as the rate is subsequently revised and approved. The proposed Interchange Energy Imbalances Rate is a market-indexed rate based on the Dow Jones Mid-Columbia Firm index. This rate is used to keep track of energy exchanges between BPA and the parties to the Pacific Northwest Coordination Agreement and is intended to cover BPA's cost of providing the interchange.

Comment Date: December 2, 2002.

2. Termoelectrica de Mexicali, S. de R.L. de C.V.

[Docket No. EG03-17-000]

Take notice that on, November 13, 2002, Termoelectrica de Mexicali, S. de R.L. de C.V. (Applicant), located at Calle Mission de San Javier No. 10661-305; Col. Zona Rio, C.P. 22320; Tijuana, Baja California, Mexico, filed with the Federal Energy Regulatory Commission an application for determination of exempt wholesale generator status pursuant to part 365 of the Commission's regulations.

Applicant will operate and directly own a natural gas-fired and steam-powered generating facility located west of Mexicali in Baja California, Mexico.

Comment Date: December 9, 2002.

3. Virginia Electric and Power Company

[Docket No. ER03-106-001]

Take notice that on November 13, 2002, Virginia Electric and Power Company (the Dominion Virginia Power or Company) tendered for filing with the Federal Energy Regulatory Commission (Commission) an amended filing in this proceeding. Dominion Virginia Power requests an effective date of January 1, 2003.

Copies of the filing were served upon the Virginia State Corporation Commission, the North Carolina Utilities Commission, and all customers under the wholesale cost based tariff.

Comment Date: December 4, 2002.

4. Virginia Electric and Power Company

[Docket No. ER03-159-001]

Take notice that on November 13, 2002, Virginia Electric and Power Company 2 tendered for filing with the Federal Energy Regulatory Commission (Commission) a modification to the filing made in the above reference docket on November 5, 2002. The filing replaces one page of the Master Power Purchase and Sale Agreement that contains an incorrect reference to a tariff.

Copies of the filing were served upon the public utility's jurisdictional customers and the Virginia State Corporation Commission.

Comment Date: December 4, 2002.

5. New York Independent System Operator, Inc.

[Docket No. ER03-180-000]

Take notice that on November 13, 2002, the New York Independent System Operator, Inc. (NYISO) filed a new Attachment U of its Open Access Transmission Tariff (OATT) to deal with “Bad Debt Losses.” The NYISO has requested an effective date of January 12, 2003 for the filing.

The NYISO has served a copy of this filing upon all parties that have executed service agreements under the NYISO's Open Access Transmission Tariff or the Market Administration and Control Area Services Tariff and upon the New York State Public Service Commission.

Comment Date: December 4, 2002.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's web site under the “e-Filing” link. The Commission strongly encourages electronic filings.

Linwood A. Watson,
Jr., Deputy Secretary.

[FR Doc. 02-29933 Filed 11-25-02; 8:45 am]

BILLING CODE 6717-01-P